DEPARTMENT OF COMMERCE

Foreign-Trade Zones Board

[Docket 26—2003]

Foreign-Trade Zone 26—Atlanta, GA; Application for Subzone Status; Inflation Systems, Inc., Facilities (Automotive Airbag Inflators); LaGrange, GA

An application has been submitted to the Foreign-Trade Zones Board (the Board) by the Georgia Foreign-Trade Zone, Inc., grantee of FTZ 26, requesting special-purpose subzone status for the automotive airbag inflator manufacturing facilities of Inflation Systems, Inc. (ISI) (a subsidiary of Takata Corporation, of Tokyo, Japan) located in LaGrange, Georgia. The application was submitted pursuant to the provisions of the Foreign-Trade Zones Act, as amended (19 U.S.C. 81a-81u), and the regulations of the Board (15 CFR part 400). It was formally filed on June 9, 2003.

The proposed subzone would include two ISI facilities located about 60 miles southwest of Atlanta: Site 1 (138 acres/130,000 sq. ft.)—manufacturing plant located at 200 Piedmont Circle, LaGrange (Troup County), Georgia; and, Site 2 (5 acres/25,000 sq. ft.)—warehouse located within the Gordon Commercial Park at 118 Gordon Commercial Drive, LaGrange. The facilities (400 employees) are used to produce automotive airbag inflators for export and the domestic market. The manufacturing plant has capacity to produce about six and a half million inflators annually. Components purchased from abroad (representing about 10% of finished inflator value) include: bases, caps, flanges, disks, bodies, closures, and connectors classified under HTSUS 8708.99.8080, and filters (duty rate range: free—2.5%).

FTZ procedures would exempt ISI from Customs duty payments on the foreign components used in export production. On its domestic sales and exports to NAFTA countries, ISI would be able to defer duty payment on the foreign components used in production until the finished inflators are formally entered for consumption. No duties would be paid on foreign components of inflators that are transferred in-bond to auto assembly plants with subzone status. The application indicates that subzone status would help improve the facilities' international competitiveness.

In accordance with the Board's regulations, a member of the FTZ Staff has been designated examiner to investigate the application and report to the B Board.

Public comment on the application is invited from interested parties. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—4100W, 1401 Constitution Ave., NW., Washington, DC 20230.

The closing period for their receipt is August 18, 2003. Rebuttal comments in response to material submitted during the foregoing period may be submitted during the subsequent 15-day period (to September 1, 2003).

A copy of the application will be available for public inspection at the Office of the Foreign-Trade Zones Board's Executive Secretary at address No.1 listed above and at the U.S. Department of Commerce Export Assistance Center, Suite 900, 285 Peachtree Center Avenue, Atlanta, Georgia 30308.

Dated: June 10, 2003.
Dennis Puccinelli,
Executive Secretary.

[FR Doc. 03-15289 Filed 6-16-03; 8:45 am]

BILLING CODE 3510-DS-P